NUCLEAR REGULATORY COMMISSION

[Docket Nos. 50-445 and 50-446; NRC-2009-0510]

Luminant Generation Company, LLC; Comanche Peak Steam Electric Station, Units 1 and 2; Environmental Assessment and Finding of No Significant Impact

The U.S. Nuclear Regulatory Commission (NRC) is considering issuance of an amendment to Facility Operating License Nos. NPF-87 and NPF-89 in accordance with Title 10 of the Code of Federal Regulations (10 CFR), Section 50.90, issued to Luminant Generation Company LLC (the licensee), for operation of the Comanche Peak Steam Electric Station (CPSES), Units 1 and 2, located in Somervell County, Texas. Therefore, as required by 10 CFR 51.21, the NRC performed an environmental assessment. Based on the results of the environmental assessment, the NRC is issuing a finding of no significant impact.

Environmental Assessment

Identification of the Proposed Action:

The proposed action would change the legal name of the plant from “Comanche Peak Steam Electric Station” to “Comanche Peak Nuclear Power Plant.”

The proposed action is in accordance with the licensee's application dated February 11, 2009.

The proposed change also removes the Table of Contents from the Technical Specifications (TSs) and places it under licensee control; deletes TS 3.2.1.1, TS 3.2.3.1, TS 5.5.9.1, TS 5.6.10, and several footnotes from Tables 3.3.1-1 and 3.3.2-1 and TS 3.4.10 since these TSs and footnotes are no longer applicable to CPSES, Unit 1 or Unit 2 operation; renumbers TS 3.2.1.2 to TS 3.2.1, TS 3.2.3.2 to TS 3.2.3, and TS 5.5.9.2 to TS 5.5.9; deletes several topical reports from the list of approved analytical methods used to determine core operating limits in TS 5.6.5; and corrects various minor editorial errors in the TSs. However, these amendments change a requirement with respect to installation or use of a facility component located within the restricted area as defined in 10 CFR part 20. The NRC staff has determined that these amendments involve no significant increase in the amounts, and no significant change in the types, of any effluents that may be released offsite, and that there is no significant increase in individual or cumulative occupational radiation exposure. The Commission has previously issued a proposed finding that these amendments involve no significant hazards consideration, and there has been no public comment on such finding published in the Federal Register on April 7, 2009 (74 FR 15772). Accordingly, these amendments meet the eligibility criteria for categorical exclusion set forth in 10 CFR 51.22(c)(9). Pursuant to 10 CFR 51.22(b), no environmental impact statement or environmental assessment need be prepared in connection with the issuance of these amendments; therefore, this environmental assessment applies to only the plant name change.

The Need for the Proposed Action:

The proposed action is necessary to reflect the legal change of name of the plant from Comanche Peak Steam Electric Station to Comanche Peak Nuclear Power Plant.

Environmental Impacts of the Proposed Action:

The NRC has concluded in its evaluation of the proposed action that since this action is for a plant name change only that (1) there is a reasonable assurance that the health and safety of the public will not be endangered by operation in the proposed manner, (2) such activities will be conducted in compliance with the Commission's regulations, and (3) the issuance of the amendments will not be inimical to the common defense and security or to the health and safety of the public.

The details of the staff's safety evaluation will be provided in the license amendment that will be issued as part of the letter to the licensee approving the license amendment.

The proposed action will not significantly increase the probability or consequences of accidents. No changes are being made in the types of effluents that may be released offsite. There is no significant increase in the amount of any effluent released offsite. There is no significant increase in occupational or public radiation exposure. Therefore, there are no significant radiological environmental impacts associated with the proposed action.

With regard to potential non-radiological impacts, the proposed action does not have any foreseeable impacts to land, air, or water resources, including impacts to biota. In addition, there are also no known socioeconomic or environmental justice impacts associated with such proposed action. It does not affect non-radiological plant effluents and has no other environmental impact. Therefore, there are no significant non-radiological environmental impacts associated with the proposed action.

Accordingly, the NRC concludes that there are no significant environmental impacts associated with the proposed action.

Environmental Impacts of the Alternatives to the Proposed Action:

As an alternative to the proposed action, the staff considered denial of the proposed action (i.e., the “no-action” alternative). Denial of the application would result in no change in current environmental impacts. The environmental impacts of the proposed action and the alternative action are similar.

Alternative Use of Resources:

The action does not involve the use of any different resources than those previously considered in the Final Environmental Statement for the CPSES, Units 1 and 2, NUREG-0775, dated September 1981 and Supplement dated October 1989.

Agencies and Persons Consulted:

In accordance with its stated policy, on August 13, 2009, the staff consulted with the Texas State official, Alice Rogers, Inspection Unit Manager, Texas Department of State Health Services, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated February 11, 2009. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or send an e-mail to pdr.resource@nrc.gov.

Dated at Rockville, Maryland, this 17th day of November 2009.
For the Nuclear Regulatory Commission.
Mohan C. Thadani,
Senior Project Manager, Plant Licensing Branch IV, Division of Operating Reactor Licensing, Office of Nuclear Reactor Regulation.

[FR Doc. E9-28090 Filed 11-20-09; 8:45 am]

BILLING CODE 7590-01-P